DEPARTMENT OF THE INTERIOR

National Park Service

Notification of Termination of the Environmental Impact Statement for the Great Falls Historic District Special Resource Study in Paterson, NJ

AGENCY: National Park Service, Interior.

ACTION: Notification of Termination of the EIS process for the Great Falls Historic District Special Resource Study in Paterson, New Jersey.

SUMMARY: As directed by the U.S. Congress in Pub. L. 107-59, the National Park Service (NPS) undertook a special resource study (SRS) of the Great Falls Historic District in Paterson, New Jersey. In accordance with NPS policy, the Great Falls Historic District SRS was initially undertaken as an Environmental Impact Statement (EIS) process in compliance with the National Environmental Policy Act of 1969, as amended (NEPA). A Notice of Intent to Prepare an EIS was published in the Federal Register on September 15, 2003. The purpose of an SRS is to determine the degree and kind of federal actions that may be desirable for the management and protection of an area considered to have potential for addition to the national park system. The EIS assesses the impacts of the management alternatives examined in the SRS.

The SRS examines a site in terms of:

• significance of the resources

• determination of suitability of the site for inclusion within the national park system in comparison to other protected sites with similar resources or themes

• determination of feasibility for the NPS to own, manage or participate in conservation and interpretation in the study area

• need for NPS management measured against other alternatives

This SRS examined the resources in the existing Great Falls Historic District, which preserves the history of the beginnings of manufacturing and labor in the United States. All of the elements of the site are located within the City of Paterson, County of Passaic, in New Jersey, adjacent to the Passaic River. Determination of the need for NPS management is the final criterion for evaluating resources for potential designation as a unit in the national park system. The study concluded that the site is determined neither suitable nor feasible for potential designation as a unit of the national park system. As a result, there is no need for NPS management and no further Federal action. Therefore, the EIS process has been terminated.

DATES: The Great Falls Historic District Special Resource Study was made available for public review at: http://parkplanning.nps.gov/ or: http://www.nps.gov/nero/greatfalls/ starting November 27, 2006.

ADDRESSES: The document was also made available for public review at the Danforth (Main) Public Library, 250 Broadway, Paterson, New Jersey.

FOR FURTHER INFORMATION CONTACT: Peter Samuel, Project Planner, National Park Service, Northeast Region, 200 Chestnut Street, 3rd Floor, Philadelphia, PA 19106.

SUPPLEMENTARY INFORMATION: Not applicable.

Dated: December 15, 2006.
Chrysandra L. Walter,
Acting Director, Northeast Region, National Park Service.

[FR Doc. 07-839 Filed 2-23-07; 8:45 am]

BILLING CODE 4312-52-M